DEPARTMENT OF ENERGY

Federal Energy Regulatory Commission

[Project No. 2621-009]

Lockhart Power Company; Notice of Application Accepted for Filing, Soliciting Motions To Intervene and Protests, Ready for Environmental Analysis, and Soliciting Comments, Recommendations, Terms and Conditions, and Prescriptions

March 24, 2010.

Take notice that the following hydroelectric application has been filed with the Commission and is available for public inspection.

a. Type of Application: New Major License.

b. Project No.: P-2621-009.

c. Date filed: November 16, 2009.

d. Applicant: Lockhart Power Company.

e. Name of Project: Pacolet Hydroelectric Project.

f. Location: On the Pacolet River, near the Town of Pacolet, Spartanburg County, South Carolina. The project does not occupy Federal Lands.

g. Filed Pursuant to: Federal Power Act 16 U.S.C. 791 (a)—825(r)

h. Applicant Contact: Bryan D. Stone, Chief Operating Officer, Lockhart Power Company, P.O. Box 10, 420 River Street, Lockhart, South Carolina 29364; Telephone (864) 545-2211.

i. FERC Contact: Lee Emery, Telephone (202) 502-8379, or by e-mail at lee.emery@ferc.gov.

j. Deadline for filing motions to intervene and protests, comments, recommendations, terms and conditions, and prescriptions is 60 days from the issuance of this notice; reply comments are due 105 days from the issuance date of this notice.

All documents (original and eight copies) may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervener files comments or documents with the Commission relating to the merits of an issue that may affect the responsibilities of a particular resource agency, they must also serve a copy of the document on that resource agency.

k. This application has been accepted for filing and is now is ready for environmental analysis.

l. Project Description: The proposed Pacolet Project would consist of two developments; one that is an existing, licensed development (the Lower Pacolet development) and a new development (Upper Pacolet development). The project would have an annual generation of 8.092 gigawatt-hours. The proposed project would consist of the facilities described below.

The Upper Pacolet development would consist of: (1) An existing 315-foot-long by 18-foot-high concrete and rubble masonry dam, with the addition of 3-foot-high flashboards; (2) an existing 30-acre reservoir, with a useable storage capacity of 90 acre-feet at elevation 519.0 feet North American Vertical Datum 1988 (NAVD 88); (3) new vertical slide intake gates with rack and pinion operators, sluice gates, and trashracks having a 1-inch clear bar spacing with a trash rake; (4) a new 24-foot-wide by 40-foot-long concrete powerhouse that would contain a vertical Kaplan turbine with an estimated generating capacity of 1,100 kilowatts (kW); (5) a tailrace with a 40-foot-long guide wall; (6) a new 200-foot-long, 34 kilovolt (kV) transmission line; (7) a proposed substation; and (8) appurtenant facilities.

The Lower Pacolet development (all existing facilities) would consist of: (1) A 347-foot-long by 24-foot-high concrete and rubble masonry dam, with 4-foot-high flashboards; (2) three sand gates; (3) an 11-acre reservoir, with a useable storage capacity of 44-acre feet at an elevation of 492.0 feet NAVD 88 ; (4) an intake structure equipped with trashracks having a 1.375-inch clear bar spacing and a trash rake; (5) a 100-foot-long by 10-foot-diameter penstock; (6) a 67-foot-long by 32-foot-wide concrete powerhouse, integral with the dam, containing two vertical Leffel Type Z turbines, each generating 400 kilowatts (kW); (7) a tailrace with a 340-foot-long curved training wall; (8) a 250-foot-long, 34.5-kV transmission line; and (9) appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov. A copy is also available for inspection and reproduction at the address in item h above.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

Kimberly D. Bose,
Secretary.

[FR Doc. 2010-7146 Filed 3-30-10; 8:45 am]

BILLING CODE 6717-01-P